ENVIRONMENTAL PROTECTION AGENCY

[FRL-7548-9]

Public Water System Supervision Program Revision for the State of Oklahoma

AGENCY: Environmental Protection Agency (EPA).

ACTION: Notice of tentative approval.

SUMMARY: Notice is hereby given that the State of Oklahoma is revising its approved Public Water System Supervision Program. Oklahoma has adopted an Arsenic Rule, Radionuclides Rule, Long Term 1 Enhanced Surface Water Treatment Rule, Filter Backwash Recycling Rule, Public Notification Rule, Lead and Copper Rule Minor Revisions, and a revised Public Water Supply Definition. The Arsenic Rule is adopted to improve public health by reducing the maximum contaminant level of Arsenic in drinking water from 50 micrograms/Liter to 10 micrograms/Liter. The Radionuclides Rule is adopted to improve public health protection and reduce the risk of cancer by reducing the exposure to radionuclides in drinking water. The Long Term 1 Enhanced Surface Water Treatment Rule will improve control of microbial pathogens, specifically the protozoan Cryptosporidium, in drinking water and address risk trade-offs with disinfection byproducts. The Filter Backwash Recycling Rule is adopted to further protect public health by requiring public water systems, where needed, to institute changes to the return of recycle flows to a plant's treatment process that may otherwise compromise microbial control. The Public Notification Rule is adopted to notify the public anytime a water system violates national primary drinking water regulations or has other situations posing a risk to public health. The Lead and Copper Rule Minor Revisions will eliminate unnecessary requirements, streamline and reduce reporting burden, and promote consistent national implementation of the Lead and Copper Rule. Finally, the revised Public Water Supply Definition will now include other constructed conveyances. EPA has determined that these revisions are no less stringent than the corresponding federal regulations. Therefore, EPA intends to approve these program revisions.

DATES: All interested parties may request a public hearing. A request for a public hearing must be submitted by September 24, 2003, to the Regional Administrator at the EPA Region 6 address shown below. Frivolous or insubstantial requests for a hearing may be denied by the Regional Administrator. However, if a substantial request for a public hearing is made by September 24, 2003, a public hearing will be held. If no timely and appropriate request for a hearing is received and the Regional Administrator does not elect to hold a hearing on his own motion, this determination shall become final and effective on September 24, 2003. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8 a.m. and 4:30 p.m., Monday through Friday, at the following offices: Oklahoma Department of Environmental Quality, Water Quality Division, Public Water Supply Section, 707 North Robinson, Oklahoma City, Oklahoma 73101 and United States Environmental Protection Agency, Region 6, Drinking Water Section (6WQ-SD), 1445 Ross Avenue, Suite 1200, Dallas, Texas 75202.

FOR FURTHER INFORMATION CONTACT: Dawn D. Ison, EPA Region 6, Drinking Water Section at the Dallas address given above or at telephone (214) 665-2162.

Authority: Section 1413 of the Safe Drinking Water Act, as amended (1996), and 40 CFR part 142 of the National Primary Drinking Water Regulations.

Dated: August 18, 2003.
Lawrence E. Starfield,
Acting Regional Administrator, Region 6.

[FR Doc. 03-21661 Filed 8-22-03; 8:45 am]

BILLING CODE 6560-50-P